DEPARTMENT OF JUSTICE

Notice of Lodging Proposed Consent Decree

In accordance with Departmental Policy, 28 CFR 50.7, notice is hereby given that a proposed Consent Decree regarding the United States' claims against Gregory D. Bee in United States v. Hertrich, et al., Case No. 1:10-cv-03068-JKB, was lodged with the United States District Court for the District of Maryland, Northern Division, on July 20, 2011.

This proposed Consent Decree concerns a complaint filed by the United States against Frederick W. Hertrich, III, Charles Ernesto, and Gregory D. Bee, pursuant to 33 U.S.C. 1319(b) and (d), to obtain injunctive relief from and impose civil penalties against the Defendants for violating the Clean Water Act by discharging pollutants without a permit into waters of the United States. The proposed Consent Decree resolves allegations against Gregory D. Bee by requiring him to pay a civil penalty.

The Department of Justice will accept written comments relating to this proposed Consent Decree for thirty (30) days from the date of publication of this Notice. Please address comments to Kent E. Hanson, U.S. Department of Justice, P.O. Box 23986, Washington, DC 20026-3986 and refer to United States v. Hertrich, et al., DJ # 90-5-1-1-18877.

The proposed Consent Decree may be examined at the Clerk's Office, United States District Court for the District of Maryland, Edward A. Garmatz Federal Building and United States Courthouse, 101 West Lombard Street, Room 4415, Baltimore, MD 21201-2605. In addition, the proposed Consent Decree may be viewed at: http://www.usdoj.gov/enrd/Consent_Decrees.html.

Cherie L. Rogers,
Assistant Section Chief, Environmental Defense Section, Environment & Natural Resources Division.

[FR Doc. 2011-18974 Filed 7-26-11; 8:45 am]

BILLING CODE;P